DEPARTMENT OF LABOR

Employment and Training Administration

[TA-W-51,183]

Columbia Falls Aluminum Company, a Wholly-Owned Subsidiary of Glencore International, Columbia Falls, Montana; Notice of Termination of Investigation

Pursuant to section 221 of the Trade Act of 1974, as amended, an investigation was initiated on March 17, 2003 in response to a petition filed by a company official on behalf of workers at Columbia Falls Aluminum Company, Columbia Falls, Montana.

The petitioner has requested that the petition be withdrawn. Consequently, further investigation would serve no purpose, and the investigation has been terminated.

Signed at Washington, DC this 1st day of May, 2003.
Linda G. Poole,
Certifying Officer, Division of Trade Adjustment Assistance.

[FR Doc. 03-12569 Filed 5-19-03; 8:45 am]

BILLING CODE 4510-30-P